DEPARTMENT OF TRANSPORTATION

Federal Aviation Administration

14 CFR Part 39

[Docket No. FAA-2006-25047; Directorate Identifier 2006-NM-028-AD]

RIN 2120-AA64

Airworthiness Directives; Airbus Model A300 B4-600, B4-600R, and F4-600R Series Airplanes, and Model A300 C4-605R Variant F Airplanes (Collectively Called A300-600 Series Airplanes)

AGENCY: Federal Aviation Administration (FAA), Department of Transportation (DOT).

ACTION: Notice of proposed rulemaking (NPRM).

SUMMARY: The FAA proposes to supersede an existing airworthiness directive (AD) that applies to certain Airbus Model A300-600 series airplanes. The existing AD currently requires repetitive eddy current inspections to detect cracks of the outer skin of the fuselage at certain frames, and repair or reinforcement of the structure at the frames, if necessary. The existing AD also requires eventual reinforcement of the structure at certain frames, which, when accomplished, terminates the repetitive inspections. This proposed AD would add, for airplanes that were previously reinforced but not repaired in accordance with the existing AD, a one-time inspection for cracking of the fuselage outer skin at frames 28A and 30A above stringer 30, and repair if necessary. This proposed AD results from a report that the previously required actions were not sufficient to correct cracking before the structural reinforcement was installed. We are proposing this AD to prevent such fatigue cracking, which could result in reduced structural integrity, and consequent rapid decompression of the airplane.

DATES: We must receive comments on this proposed AD by July 17, 2006.

ADDRESSES: Use one of the following addresses to submit comments on this proposed AD.

• DOT Docket Web site: Go to http://dms.dot.gov and follow the instructions for sending your comments electronically.

• Governmentwide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tom Stafford, Aerospace Engineer, International Branch, ANM-116, FAA, Transport Airplane Directorate, 1601 Lind Avenue, SW., Renton, Washington 98055-4056; telephone (425) 227-1622; fax (425) 227-1149.

SUPPLEMENTARY INFORMATION:

Comments Invited

We invite you to submit any relevant written data, views, or arguments regarding this proposed AD. Send your comments to an address listed in the ADDRESSES section. Include the docket number “Docket No. FAA-2006-25047; Directorate Identifier 2006-NM-028-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On June 23, 1997, we issued AD 97-14-02, amendment 39-10059 (62 FR 35072, June 30, 1997), for certain Airbus Model A300-600 airplanes. That AD requires repetitive eddy current inspections to detect cracks of the outer skin of the fuselage at certain frames, and repair or reinforcement of the structure at the frames, if necessary. That AD also requires eventual reinforcement of the structure at certain frames, which, when accomplished, terminates the repetitive inspections. That AD resulted from a report indicating that fatigue cracks were found in the area of certain frames. We issued that AD to prevent such fatigue cracking, which could reduce the structural integrity of the airframe and result in rapid decompression of the airplane.

Actions Since Existing AD Was Issued

Since we issued AD 97-14-02, the manufacturer has reported that the previously required actions were not sufficient to correct cracking before the structural reinforcement was installed. Cracks detected in accordance with Airbus Service Bulletin A300-53-6045, dated March 21, 1995; Revision 01, dated August 25, 1997; or Revision 02, dated May 2, 1999; may not have been corrected in accordance with the temporary repair defined in the service bulletin, which was referenced in AD 97-14-02.

Relevant Service Information

Airbus has issued Service Bulletin A300-53-6037, Revision 02, dated October 28, 2004. The procedures in the service bulletin are essentially the same as the procedures in Airbus Service Bulletin A300-53-6037, dated March 21, 1995, which was referenced as an appropriate source of service information for accomplishing the reinforcement required by AD 97-14-02.

Airbus has also issued Service Bulletin A300-53-6045, Revision 03, dated October 28, 2004. The procedures in the service bulletin are essentially the same as the procedures in Airbus Service Bulletin A300-53-6045, dated March 21, 1995, which was referenced as an appropriate source of service information for accomplishing the inspections required by AD 97-14-02. However, this service bulletin specifies that additional work is required for airplanes that were previously modified in accordance with any revision of Airbus Service Bulletin A300-53-6037. The additional work is an eddy current inspection for cracking of the fuselage outer skin at frames 28A and 30A above stringer 30. If no crack is found, the service bulletin specifies that no further action is necessary. If any crack is found, the service bulletin specifies contacting Airbus for repair instructions.

Accomplishing the actions specified in the service information is intended to adequately address the unsafe condition. The Direction Générale de l'Aviation Civile (DGAC), which is the airworthiness authority for France, mandated the service information and issued French airworthiness directive F-2005-002, dated January 5, 2005, and corrected February 16, 2005, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that AD action is necessary for airplanes of this type design that are certificated for operation in the United States.

This proposed AD would supersede AD 97-14-02 and would retain the requirements of the existing AD. This proposed AD would also require, for airplanes that were previously reinforced in accordance with any revision of Airbus Service Bulletin A300-53-6037 without having been first repaired in accordance with any revision of Airbus Service Bulletin A300-53-6045, an inspection for cracking of the fuselage outer skin at frames 28A and 30A above stringer 30, and repair if necessary.

Differences Between the Proposed AD and the French Airworthiness Directive

Although Service Bulletin A300-53-6045, Revision 03, which is cited in the French airworthiness directive, specifies to contact the manufacturer for instructions on how to repair certain conditions, this proposed AD would require repairing those conditions using a method that we or the DGAC (or its delegated agent) approve. In light of the type of repair that would be required to address the unsafe condition, and consistent with existing bilateral airworthiness agreements, we have determined that, for this proposed AD, a repair we or the DGAC approve would be acceptable for compliance with this proposed AD.

This proposed AD would require only the actions for airplanes specified as Configuration 02 in the French airworthiness directive. AD 97-14-02 did not allow for flight with cracks, which is specified for Configuration 01 airplanes in the French airworthiness directive. Therefore, the actions described for Configuration 01 airplanes do not apply to this proposed AD.

Changes to Existing AD

This proposed AD would retain all requirements of AD 97-14-02. Since AD 97-14-02 was issued, the AD format has been revised, and certain paragraphs have been rearranged. As a result, the corresponding paragraph identifiers have changed in this proposed AD, as listed in the following table:

Revised Paragraph Identifiers
Requirement in AD 97-14-02 | Corresponding requirement in this proposed AD
Paragraph (a) | Paragraph (f).
Paragraph (b) | Paragraph (g).

We have revised this action to clarify the appropriate procedure for notifying the principal inspector before using any approved alternative method of compliance (AMOC) on any airplane to which the AMOC applies.

We have revised the applicability to identify the model designations as published in the most recent type certificate data sheet for the affected models, and to remove the reference to Airbus Modification 8684, which is the modification specified in Airbus Service Bulletin A300-53-6037, Revision 02, dated October 28, 2004.

Explanation of Change to Costs of Compliance

After the original NPRM was issued, we reviewed the figures we have used over the past several years to calculate AD costs to operators. To account for various inflationary costs in the airline industry, we find it necessary to increase the labor rate used in these calculations from $65 per work hour to $80 per work hour. The cost impact information, below, reflects this increase in the specified hourly labor rate.

Costs of Compliance

This proposed AD would affect about 53 airplanes of U.S. registry. The following table provides the estimated costs for U.S. operators to comply with this proposed AD. The average labor rate is $80 per work hour.

Estimated Costs
Action | Work hours | Parts | Cost per airplane | Fleet cost
Inspection (required by AD 97-14-02) | 1 | None | $80, per inspection cycle | $4,240, per inspection cycle.
Reinforcement (required by AD 97-14-02) | 93 | $7,200 | $14,640 | $775,920.
Inspection (new proposed action) | 1 | None | $80 | $4,240.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-10059 (62 FR 35072, June 30, 1997) and adding the following new airworthiness directive (AD):

Airbus: Docket No. FAA-2006-25047; Directorate Identifier 2006-NM-028-AD.

Comments Due Date

(a) The FAA must receive comments on this AD action by July 17, 2006.

Affected ADs

(b) This AD supersedes AD 97-14-02.

Applicability

(c) This AD applies to Airbus Model A300 B4-601, B4-603, B4-620, B4-622, B4-605R, B4-622R, F4-605R, F4-622R, and C4-605R Variant F airplanes, certificated in any category, except those on which Airbus Modification 8683 has been done.

Unsafe Condition

(d) This AD results from a report that the previously required actions were not sufficient to correct cracking before the structural reinforcement was installed. We are issuing this AD to prevent fatigue cracking of the outer skin of the fuselage at certain frames, which could result in reduced structural integrity, and consequent rapid decompression of the airplane.

Compliance

(e) You are responsible for having the actions required by this AD performed within the compliance times specified, unless the actions have already been done.

Restatement of the Requirements of AD 97-14-02

(f) Prior to the accumulation of 14,100 total flight cycles, or within 12 months after August 4, 1997 (the effective date of AD 97-14-02), whichever occurs later, conduct an eddy current inspection to detect cracking of the fuselage outer skin at frames 28A and 30A above stringer 30, in accordance with the Accomplishment Instructions of Airbus Service Bulletin A300-53-6045, dated March 21, 1995, as revised by Change Notice No. O.A., dated June 1, 1995; or Airbus Service Bulletin A-300-53-6045, Revision 03, dated October 28, 2004. After the effective date of this AD, only Revision 03 may be used. After the effective date of this AD, the initial eddy current inspection and all applicable repairs required by this paragraph must be done before doing the reinforcement specified in paragraph (g) of this AD.

(1) If no cracking is found, repeat the eddy current inspection thereafter at intervals not to exceed 4,500 flight cycles.

(2) If any cracking is found that is within the limits specified in the service bulletin: Prior to further flight do the action in paragraph (f)(2)(i) or (f)(2)(ii) of this AD. After the effective date of this AD, only Airbus Service Bulletin A300-53-6045, Revision 03, dated October 28, 2004, may be used for the repair specified in paragraph (f)(2)(i) of this AD; and the reinforcement option specified in paragraph (f)(2)(ii) of this AD is not allowed in accordance with this paragraph.

(i) Repair in accordance with paragraph 2.D. of the Accomplishment Instructions of Airbus Service Bulletin A300-53-6045, dated March 21, 1995, as revised by Change Notice No. O.A., dated June 1, 1995; or paragraph 3.C. of the Accomplishment Instructions of Revision 03, dated October 28, 2004. After the repair, repeat the eddy current inspection thereafter at intervals not to exceed 4,500 flight cycles.

(ii) Reinforce the structure at frames 28 and 29, and at frames 30 and 31, between stringers 29 and 30, in accordance with the Accomplishment Instructions of Airbus Service Bulletin A300-53-6037, dated March 21, 1995; or Revision 02, dated October 28, 2004. Such reinforcement constitutes terminating action for the repetitive inspections required by this AD.

(3) If any cracking is found that is outside the limits specified in the service bulletin: Prior to further flight, reinforce the structure at frames 28 and 29, and at frames 30 and 31, between stringers 29 and 30, in accordance with the Accomplishment Instructions of Airbus Service Bulletin A300-53-6037, dated March 21, 1995; or Revision 02, dated October 28, 2004. After the effective date of this AD, only Revision 02 may be used. Such reinforcement constitutes terminating action for the repetitive inspections required by this AD.

(g) Within 5 years after August 4, 1997: Reinforce the structure at frames 28 and 29, and at frames 30 and 31, between stringers 29 and 30, in accordance with the Accomplishment Instructions of Airbus Service Bulletin A300-53-6037, dated March 21, 1995; or Revision 02, dated October 28, 2004. After the effective date of this AD, only Revision 02 may be used. Such reinforcement constitutes terminating action for the repetitive inspections required by this AD. After the effective date of this AD, the initial eddy current inspection and all applicable repairs required by paragraph (f) of this AD must be done before doing the reinforcement.

New Requirements of This AD

Inspection and Corrective Action

(h) For airplanes that meet the conditions of both paragraphs (h)(1) and (h)(2) of this AD: Within 2,400 flight cycles or 18 months after the effective date of this AD, whichever occurs first, conduct an eddy current inspection to detect cracking of the fuselage outer skin at frames 28A and 30A above stringer 30, in accordance with the Accomplishment Instructions of Airbus Service Bulletin A300-53-6045, Revision 03, dated October 28, 2004. If no cracking is found: No further action is required by this paragraph. If any cracking is found: Before further flight, repair the cracking using a method approved by either the Manager, International Branch, ANM-116, Transport Airplane Directorate, FAA; or the Direction Générale de l'Aviation Civile (DGAC) (or its delegated agent).

(1) Airplanes that were reinforced before the effective date of this AD in accordance with any service bulletin specified in Table 1 of this AD.

Table 1.—Reinforcement Service Bulletins
Airbus Service Bulletin | Revision level | Date
A300-53-6037 | Original | March 21, 1995.
| 01 | February 3, 1999.
| 02 | October 28, 2004.

(2) Airplanes that were not inspected and repaired in accordance with any service bulletin specified in Table 2 of this AD.

Table 2.—Inspection and Repair Service Bulletins
Airbus Service Bulletin | Revision level | Date
A300-53-6045 | Original | March 21, 1995.
| 01 | August 25, 1997.
| 02 | May 2, 1999.
| 03 | October 28, 2004.

Alternative Methods of Compliance (AMOCs)

(i)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) French airworthiness directive F-2005-002, dated January 5, 2005, also addresses the subject of this AD.

Issued in Renton, Washington, on June 8, 2006.
Kalene C. Yanamura,
Acting Manager, Transport Airplane Directorate, Aircraft Certification Service.

[FR Doc. E6-9342 Filed 6-14-06; 8:45 am]

BILLING CODE 4910-13-P